DEPARTMENT OF AGRICULTURE

Forest Service

Notice of Proposed New Fee Sites; Federal Lands Recreation Enhancement Act

AGENCY: Chattahoochee-Oconee National Forests, USDA Forest Service.

ACTION: Notice of proposed new fee sites.

SUMMARY: The Chattahoochee-Oconee National Forests are proposing to charge new fees at Pocket Recreation Picnic Area on the Conasauga Ranger District and Raven Cliffs Trailhead on the Chattooga River Ranger District. Both sites are proposed at $5.00 for a day and both would accept the suite of America the Beautiful—National Parks and Federal Recreational Lands passes.

DATES: Send any comments about these fee proposals by August 6, 2018. Comments will be compiled, analyzed and shared with a Recreation Resource Advisory Committee. If approved by the Southern Region Regional Forester, new fees would begin in 2019.

ADDRESSES: Betty Jewett, Forest Supervisor, Chattahoochee-Oconee National Forests, 1755 Cleveland Hwy., Gainesville, GA 30501.

FOR FURTHER INFORMATION CONTACT: Kyle Grambley, Recreation Program Manager, 770-297-3066. Information about proposed fee changes can also be found on the Chattahoochee-Oconee National Forests website: http://www.fs.usda.gov/conf.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Both sites are in good condition and offers picnic tables, parking facilities, vault toilet and trail and river access. Fees are assessed based on the level of amenities and services provided, cost of operation and maintenance, market assessment, and public comment. Funds from fees would be used to help improve, operate and maintain these sites, which includes addressing sanitation and safety concerns, improving deteriorated facilities and providing amenities that enhance the recreation experience.

Dated: May 17, 2018.
Glenn Casamassa,
Associate Deputy Chief, National Forest System.

[FR Doc. 2018-14406 Filed 7-3-18; 8:45 am]

BILLING CODE 3411-15-P